DEPARTMENT OF COMMERCE

International Trade Administration

[C-570-009]

Calcium Hypochlorite From the People's Republic of China: Rescission of Countervailing Duty Administrative Review; 2014-2015

AGENCY: Enforcement and Compliance, International Trade Administration, Department of Commerce.

SUMMARY: The Department of Commerce (“the Department”) is rescinding the administrative review of the countervailing duty order on calcium hypochlorite from the People's Republic of China (“PRC”) for May 27, 2014 through December 31, 2015.

DATES: Effective: April 18, 2016.

FOR FURTHER INFORMATION CONTACT: Katie Marksberry, AD/CVD Operations, Office V, Enforcement and Compliance, International Trade Administration, Department of Commerce, 14th Street and Constitution Avenue NW., Washington, DC 20230; telephone: (202) 482-7906.

SUPPLEMENTARY INFORMATION:

Background

On March 3, 2016, based on a timely request for review on behalf of Haixing Jingmei Chemical Products Sales Co. Ltd. (“Jingmei”) and Haixing Eno Chemical Co., Ltd. (“Eno”),¹ the Department published in the Federal Register a notice of initiation of an administrative review of the countervailing duty order on calcium hypochlorite from the PRC covering the period May 27, 2014 through December 31, 2015.² The review covers Jingmei and Eno.³ On March 25, 2016, Jingmei and Eno withdrew their requests for an administrative review.⁴ No other party requested a review of these companies or any other exporters of subject merchandise.

¹ See Letter to the Department from Jingmei and Eno, Re: “Calcium Hypochlorite from the People's Republic of China: Request for Administrative Review,” dated January 29, 2016.

² See Initiation of Antidumping and Countervailing Duty Administrative Reviews, 81 FR 11179 (March 3, 2016) (“Initiation Notice”).

³ Id.

⁴ See Letter to the Department from Jingmei and Eno; Re: “Calcium Hypochlorite from the People's Republic of China: Withdrawal of Request for Annual Administrative Review,” dated March 25, 2016.

Rescission of Review

Pursuant to 19 CFR 351.213(d)(1), the Department will rescind an administrative review, in whole or in part, if the party that requested the review withdraws its request within 90 days of the publication of the notice of initiation of the requested review. In this case, Jingmei and Eno timely withdrew their request by the 90-day deadline, and no other party requested an administrative review of the countervailing duty order. As a result, pursuant to 19 CFR 351.213(d)(1), we are rescinding the administrative review of calcium hypochlorite from the PRC for the period May 27, 2014 through December 31, 2015, in its entirety.

Assessment

Both Jingmei and Eno are subject to an ongoing new shipper review covering the same period of review as this administrative review.⁵ Accordingly, CBP should continue to suspend liquidation of entries exported by Jingmei and Eno, until the Department instructs otherwise, pursuant to the final results of the new shipper review.

⁵ See Calcium Hypochlorite from the People's Republic of China: Initiation of Countervailing Duty New Shipper Review; 2014-2015, 81 FR 11516 (March 4, 2016).

Notifications

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: April 11, 2016.
Christian Marsh,
Deputy Assistant Secretary for Antidumping and Countervailing Duty Operations.

[FR Doc. 2016-08907 Filed 4-15-16; 8:45 am]

BILLING CODE 3510-DS-P